DEPARTMENT OF THE INTERIOR

Fish and Wildlife Service

[FWS-R4-ES-2009-N0024; 40120-1112-0000-F2]

Receipt of Applications for the Amendment of Incidental Take Permits for Residential Construction in Charlotte County, FL

AGENCY: Fish and Wildlife Service, Interior.

ACTION: Notice of receipt of permit amendment application; request for comments.

SUMMARY: The U.S. Fish and Wildlife Service (Service) issued incidental take permits (permits) (TE136149-0, TE136150-0, TE136151-0, and TE136153-0), pursuant to section 10(a)(1)(B) of the Endangered Species Act of 1973, as amended, for incidental take of the threatened Florida scrub-jay (Aphelocoma coerulescens) (scrub-jay) in Charlotte County, Florida to Peter Famulari (Applicant). The Applicant has requested an amendment to the permits that will change the mitigation option from payment to the Florida Scrub-jay Conservation Fund administered by The Nature Conservancy to providing the Charlotte County conservation lands program an option to purchase land that will result in acquisition of 79 acres of suitable scrub-jay habitat. The Applicant has agreed to follow all other existing habitat conservation plan (HCP) conditions. If amended, no additional take will be authorized.

DATES: We must receive your written comments on the permit amendments on or before March 9, 2009.

ADDRESSES: See the SUPPLEMENTARY INFORMATION section below for information on how to submit your comments on the permit amendments. You may obtain a copy of the permit amendment applications and the HCP by writing to the South Florida Ecological Services Office, Attn: Permit number TE136149-1/TE136153-1, U.S. Fish and Wildlife Service, 1339 20th Street, Vero Beach, FL 32960-3559. In addition, we will make the permit amendment applications and HCP available for public inspection by appointment during normal business hours at the above address.

FOR FURTHER INFORMATION CONTACT: Ms. Trish Adams, Fish and Wildlife Biologist, South Florida Ecological Services Office (see ADDRESSES); telephone: (772) 562-3909, ext. 232.

SUPPLEMENTARY INFORMATION: If you wish to comment on the permit amendments, you may submit comments by any one of the following methods. Please reference permit number TE136149-1/TE136153-1 in such comments.

1. Mail or hand-deliver comments to our South Florida Ecological Services Office address (see ADDRESSES).

2. E-mail comments to trish_adams@fws.gov. If you do not receive a confirmation that we have received your e-mail message, contact us directly at the telephone number listed under FOR FURTHER INFORMATION CONTACT.

Before including your address, phone number, e-mail address, or other personal identifying information in your comments, you should be aware that your entire comment—including your personal identifying information—may be made publicly available at any time. While you can ask us in your comment to withhold your personal identifying information from public review, we cannot guarantee that we will be able to do so.

Residential construction will take place on six parcels in the vicinity of latitude 27.013 and longitude −82.015 in Punta Gorda Isles, Punta Gorda, Charlotte County, Florida. These parcels are within scrub-jay occupied habitat. The parcels encompass about 3.2 acres, and the footprint of the structure, infrastructure, and landscaping precludes retention of scrub-jay habitat on these parcels. More details on the specific parcel locations are available in the HCP (see ADDRESSES). The original permits became effective on February 28, 2007. Opportunity for public review of the original applications was provided in 71 FR 65125 (November 7, 2006).

The Service has made preliminary determinations that amendment of the permits is neither a major Federal action that will significantly affect the quality of the human environment within the meaning of section 102(2)(C) of the National Environmental Policy Act (NEPA), nor will they individually or cumulatively have more than a negligible effect on the species covered in the HCP. Therefore, the permit amendment qualifies as a categorical exclusion under NEPA as provided by the Department of Interior Manual (516 DM 2, Appendix 1 and 516 DM 8.5).

Authority: We provide this notice pursuant to Section 10 of the Endangered Species Act (16 U.S.C. 1531 et seq.) and NEPA regulations (40 CFR 1506.6).

Dated: January 16, 2009.
Paul Souza,
Field Supervisor, South Florida Ecological Services Field Office.

[FR Doc. E9-2554 Filed 2-5-09; 8:45 am]

BILLING CODE 4310-55-P